DEPARTMENT OF TRANSPORTATION

Maritime Administration

[USCG-2006-24644]

TORP Terminal LP, Bienville Offshore Energy Terminal Liquefied Natural Gas Deepwater Port License Application; Preparation of Environmental Impact Statement

AGENCY: Maritime Administration, DOT.

ACTION: Notice of availability; notice of public meeting; request for comments.

SUMMARY: The Coast Guard and the Maritime Administration (MARAD) announce the availability of the Draft Environmental Impact Statement (DEIS) for the TORP Terminal LP, Bienville Offshore Energy Terminal Liquefied Natural Gas Deepwater Port license application. The application describes a project that would be located in the Gulf of Mexico, in Main Pass block MP 258, approximately 63 miles south of Mobile Point, Alabama. The Coast Guard and MARAD request public comments on the DEIS. Publication of this notice begins a 45 day comment period and provides information on how to participate in the process.

DATES: The public meeting in Mobile, Alabama will be held on July 25, 2007. The public meeting will be held from 5 p.m. to 7 p.m. and will be preceded by an open house from 3 p.m. to 4:30 p.m. The public meeting may end earlier or later than the stated time, depending on the number of people wishing to speak. Material submitted in response to the request for comments on the DEIS must reach the Docket Management Facility by August 20, 2007.

ADDRESSES: The open house and public meeting will be held at: Mobile Convention Center, One South Water Street, Room 203, Mobile, Alabama 36602; telephone: 251-208-2100.

The DEIS, the application, and associated documentation is available for viewing at the DOT's Docket Management System Web site: http://dms.dot.gov under docket number 24644. The DEIS is also available at public libraries in Mobile (Ben May Main Library and Spring Hill College Library), Bayou La Batre (Mose Hudson Tapia Public Library), Orange Beach (Orange Beach Public Library), Daphne (Daphne Public Library), and Gulf Shores (Thomas B. Norton Public Library).

Address docket submissions for USCG-2006-24644 to: Department of Transportation, Docket Management Facility, 1200 New Jersey Avenue, SE.,West Building,Ground Floor, Room W12-140,Washington, DC 20590-0001.

The Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://dms.dot.gov.

FOR FURTHER INFORMATION CONTACT: Mary K. Jager, U.S. Coast Guard, telephone: 202-372-1454, e-mail: Mary.K.Jager@uscg.mil; LTJG Hannah Kim, U.S. Coast Guard, telephone 202-372-1438, e-mail: Hannah.Kim@uscg.mil; or Gregory V. Sparkman, Maritime Administration, telephone 202-366-1908, e-mail: greg.sparkman@dot.gov. If you have questions on viewing the docket, call Renee V. Wright, Program Manager, Docket Operations, telephone: 202-493-0402.

SUPPLEMENTARY INFORMATION:

Public Hearing and Open House

We invite you to learn about the proposed deepwater port at an informational open house, and to comment at a public hearing on the proposed action and the evaluation contained in the DEIS.

In order to allow everyone a chance to speak at the public meeting, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Docket Management Facility's Docket Management System (DMS). See “Request for Comments” for information about DMS and your rights under the Privacy Act.

All public meeting locations will be wheelchair-accessible. If you plan to attend the open house or public hearing, and need special assistance such as sign language interpretation or other reasonable accommodation, please notify the Coast Guard (see FOR FURTHER INFORMATION CONTACT) at least 3 business days in advance. Include your contact information as well as information about your specific needs.

Request for Comments

We request public comments or other relevant information on the DEIS. The public hearing is not the only opportunity you have to comment. In addition to or in place of attending a meeting, you can submit comments to the Docket Management Facility during the public comment period (see DATES). We will consider all comments and material received during the comment period for the DEIS. We will announce the availability of the Final EIS (FEIS) and once again give you the opportunity to review and comment. If you want that notice sent directly to you please contact representatives at the public hearing or the Coast Guard representative identified in FOR FURTHER INFORMATION CONTACT.

Submissions should include:

• Docket number USCG-2006-24644.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Background

Information about deepwater ports, the statutes, and regulations governing their licensing, and the receipt of the current application for a liquefied natural gas (LNG) deepwater port appears at 71 FR 26605, May 5, 2006. The Notice of Intent to Prepare an EIS for the proposed action was published in the Federal Register at 71 FR 31258, June 1, 2006. The DEIS, application materials and associated comments are available on the docket. Information from the “Summary of the Application” from previous Federal Register notices is included below for your convenience.

Proposed Action and Alternatives

The proposed action requiring environmental review is the Federal licensing of the proposed deepwater port described in “Summary of the Application” below. The alternatives to licensing the proposed port are: (1) Licensing with conditions (including conditions designed to mitigate environmental impact), and (2) denying the application, which for purposes of environmental review is the “no-action” alternative. These alternatives are more fully discussed in the DEIS. The Coast Guard and MARAD are the lead Federal agencies for the preparation of the EIS. You can address any questions about the proposed action or the DEIS to the Coast Guard project manager identified in FOR FURTHER INFORMATION CONTACT.

Summary of the Application

TORP Terminal LP, proposes to own, construct, and operate a deepwater port, named Bienville Offshore Energy Terminal (BOET), in the Federal waters of the Outer Continental Shelf on Main Pass block MP 258, approximately 63 miles south of Mobile Point, Alabama, in a water depth of approximately 425 feet. The BOET Deepwater Port would be capable of mooring two LNG carriers of up to approximately 250,000 cubic meter capacity by means of Single Anchor Leg Moorings.

The LNG carriers would be off loaded one at a time to HiLoad floating re-gasification facilities, which use four submerged shell-and-tube heat exchangers to vaporize the LNG before sending natural gas via 14-inch diameter flexible risers to a Pipeline End Manifold (PLEM) on the seafloor, then through a 30-inch diameter pipeline to the support platform, where the gas will be metered and further sent via interconnecting pipelines to four existing pipelines (Dauphin Island Gathering System Feedline, Transco Feedline, Destin Feedline, and Viosca Knoll Gathering System Feedline).

The major components of the proposed deepwater port would be the Support Platform, two HiLoad floating LNG transfer and re-gasification units, two PLEMs with ancillary risers and terminal pipelines, HiLoad parking line pilings, and approximately 25 miles of new subsea pipeline.

BOET will have an average throughput capacity of 1.2 billion standard cubic feet per day (Bscfd) of natural gas. No new onshore pipelines or LNG storage facilities are proposed with this action. A shore based facility will be used to facilitate movement of personnel, equipment, supplies, and disposable materials between the Terminal and shore.

Construction of the deepwater port would be expected to take 30 months; with startup of commercial operations in 2010, should a license be issued. The deepwater port, if licensed, would be designed, constructed and operated in accordance with applicable codes and standards and would have an expected operating life of approximately 25 years.

Privacy Act

The electronic form of all comments received into the DOT docket can be searched by the name of the individual submitting the comment (or signing the comment, if submitted on behalf of an association, business, labor union, etc.). You may review DOT's complete Privacy Act Statement in the Federal Register published on April 11, 2000 (Volume 65, Number 70, pages 19477-78) or you may visit http://dms.dot.gov.

(Authority 49 CFR 1.66)

By order of the Maritime Administrator.
Dated: June 29, 2007.
Daron T. Threet,
Secretary, Maritime Administration.

[FR Doc. E7-13030 Filed 7-5-07; 8:45 am]

BILLING CODE 4910-81-P